DEPARTMENT OF TRANSPORTATION

Federal Aviation Administration

14 CFR Part 39

[Docket No. FAA-2012-0807; Directorate Identifier 2011-NM-191-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318-111 and -112 airplanes, and Model A319, A320, and A321 series airplanes. This proposed AD was prompted by reports of silicon particles inside the oxygen generator manifolds, which had chafed from the mask hoses during installation onto the generator outlets. This proposed AD would require identifying the part number and serial number of each passenger oxygen container, replacing the oxygen generator manifold of the affected oxygen container with a serviceable manifold, and performing an operational check of the manual mask release and corrective actions if necessary. We are proposing this AD to detect and correct non-serviceable oxygen generator manifolds, which could reduce or block the oxygen supply, which could result in injury to passengers when oxygen supply is needed.

DATES: We must receive comments on this proposed AD by October 1, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. For B/E service information identified in this proposed AD, contact B/E Aerospace Systems GmbH, Revalstrasse 1, 23560 Lubeck, Germany; telephone (49) 451 4093-2976; fax (49) 451 4093-4488. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2012-0807; Directorate Identifier 2011-NM-191-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0167, dated September 6, 2011 (referred to after this as “the MCAI”), to correct an unsafe condition for the specified products. The MCAI states:

During production of passenger oxygen containers, the manufacturer B/E Aerospace detected some silicon particles inside the oxygen generator manifolds. Investigation revealed that those particles (chips) had chafed from the mask hoses during installation onto the generator outlets. It was discovered that a defective mask hose installation device had caused the chafing.

This condition, if not detected and corrected, could reduce or block the oxygen supply, possibly resulting in injury to passengers when oxygen supply is needed.

For the reasons described above, this [EASA] AD requires the identification and modification of the affected oxygen container assemblies. This AD also prohibits the installation of the affected containers on any aeroplane as replacement parts.

Required actions also include replacing the oxygen generator manifold of the affected oxygen container with a serviceable manifold, and doing an operational check of the manual mask release and corrective actions if necessary. You may obtain further information by examining the MCAI in the AD docket.

Relevant Service Information

Airbus has issued Service Bulletin A320-35A1047, dated March 29, 2011. B/E AEROSPACE has issued Service Bulletin 1XCXX-0100-35-005, Revision 1, dated December 15, 2012; and 22CXX-0100-35-003, Revision 1, dated December 20, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 220 airplanes of U.S. registry. We also estimate that it would take about 3 work-hours per oxygen container to comply with the basic requirements of this proposed AD. The average number of oxygen containers per airplane is 50. The average labor rate is $85 per work-hour. Required parts would cost about $0 per product. Where the service information lists required parts costs that are covered under warranty, we have assumed that there will be no charge for these parts. As we do not control warranty coverage for affected parties, some parties may incur costs higher than estimated here. Based on these figures, we estimate the cost of the proposed AD on U.S. operators to be $2,805,000, or $12,750 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0807; Direc-torate Identifier 2011-NM-191-AD.

(a) Comments Due Date

We must receive comments by October 1, 2012.

(b) Affected ADs

None.

(c) Applicability

This AD applies to Airbus Model A318-111 and -112 airplanes; A319-111, -112, -113, -114, -115, -131, -132, and -133 airplanes; A320-111, -211, -212, -214, -231, -232, and -233 airplanes; A321-111, -112, -131, -211, -212, -213, -231, and -232 airplanes; certificated in any category; all manufacturer serial numbers (MSN).

(d) Subject

Air Transport Association (ATA) of America Code 35: Oxygen.

(e) Reason

This AD was prompted by reports of silicon particles inside the oxygen generator manifolds, which had chafed from the mask hoses during installation onto the generator outlets. We are issuing this AD to detect and correct non-serviceable oxygen generator manifolds, which could reduce or block the oxygen supply, which could result in injury to passengers when oxygen supply is needed.

(f) Compliance

You are responsible for having the actions required by this AD performed within the compliance times specified, unless the actions have already been done.

(g) Part Number and Serial Number Identification

Within 4,500 flight cycles, or 6,000 flight hours, or 20 months, whichever occurs first, after the effective date of this AD, identify the part number and serial number of each passenger oxygen container. A review of airplane maintenance records is acceptable in lieu of this identification if the part number and serial number of the oxygen container can be conclusively determined from that review.

(h) Replacement

If the part number and serial number of the container are listed in table 2 and table 1 of this AD: Within the compliance time specified in paragraph (g) of this AD, replace the oxygen generator manifold of the affected oxygen container with a serviceable manifold and do an operational check of the manual mask release, in accordance with the Accomplishment Instructions of Airbus Service Bulletin A320-35A1047, dated March 29, 2011, except as provided by paragraphs (i)(1) through (i)(4) of this AD. If the operational check fails, before further flight, repair, using a method approved by either the Manager, International Branch, ANM 116, Transport Airplane Directorate, FAA; or the European Aviation Safety Agency (or its delegated agent).

Table 1—Affected Serial Numbers
ARBA-0000 to ARBA-9999 inclusive.
ARBB-0000 to ARBB-9999 inclusive.
ARBC-0000 to ARBC-9999 inclusive.
ARBD-0000 to ARBD-9999 inclusive.
ARBE-0000 to ARBE-9999 inclusive.
BEBF-0000 to BEBF-9999 inclusive.
BEBH-0000 to BEBH-9999 inclusive.
BEBK-0000 to BEBK-9999 inclusive.
BEBL-0000 to BEBL-9999 inclusive.
BEBM-0000 to BEBM-9999 inclusive.

Table 2—Part Number of the Affected Passenger Emergency Oxygen Container Assemblies *
Type I—15 Min.
12C15L215XX0100 | 12C15R335XX0100 | 13C15R215XX0100 | 14C15L335XX0100
12C15L216XX0100 | 12C15R336XX0100 | 13C15R216XX0100 | 14C15L336XX0100
12C15L235XX0100 | 12C15R475XX0100 | 13C15R235XX0100 | 14C15L475XX0100
12C15L236XX0100 | 12C15R476XX0100 | 13C15R236XX0100 | 14C15L476XX0100
12C15L2F5XX0100 | 12C15R4G5XX0100 | 13C15R2F5XX0100 | 14C15L4G5XX0100
12C15L2F6XX0100 | 12C15R4G6XX0100 | 13C15R2F6XX0100 | 14C15L4G6XX0100
12C15L335XX0100 | 13C15L216XX0100 | 13C15R335XX0100 | 14C15R215XX0100
12C15L336XX0100 | 13C15L235XX0100 | 13C15R336XX0100 | 14C15R216XX0100
12C15L475XX0100 | 13C15L236XX0100 | 13C15R475XX0100 | 14C15R235XX0100
12C15L476XX0100 | 13C15L2F5XX0100 | 13C15R476XX0100 | 14C15R236XX0100
12C15L4G5XX0100 | 13C15L2F6XX0100 | 13C15R4G5XX0100 | 14C15R2F5XX0100
12C15L4G6XX0100 | 13C15L335XX0100 | 13C15R4G6XX0100 | 14C15R2F6XX0100
12C15R215XX0100 | 13C15L336XX0100 | 14C15L215XX0100 | 14C15R335XX0100
12C15R216XX0100 | 13C15L475XX0100 | 14C15L216XX0100 | 14C15R336XX0100
12C15R235XX0100 | 13C15L476XX0100 | 14C15L235XX0100 | 14C15R475XX0100
12C15R236XX0100 | 13C15L4G5XX0100 | 14C15L236XX0100 | 14C15R476XX0100
12C15R2F5XX0100 | 13C15L4G6XX0100 | 14C15L2F5XX0100 | 14C15R4G5XX0100
12C15R2F6XX0100 | 13C15R215XX0100 | 14C15L2F6XX0100 | 14C15R4G6XX0100
Type I—22 Min.
12C22L215XX0100 | 12C22R335XX0100 | 13C22R215XX0100 | 14C22L335XX0100
12C22L216XX0100 | 12C22R336XX0100 | 13C22R216XX0100 | 14C22L336XX0100
12C22L235XX0100 | 12C22R475XX0100 | 13C22R235XX0100 | 14C22L475XX0100
12C22L236XX0100 | 12C22R476XX0100 | 13C22R236XX0100 | 14C22L476XX0100
12C22L2F5XX0100 | 12C22R4G5XX0100 | 13C22R2F5XX0100 | 14C22L4G5XX0100
12C22L2F6XX0100 | 12C22R4G6XX0100 | 13C22R2F6XX0100 | 14C22L4G6XX0100
12C22L335XX0100 | 13C22L216XX0100 | 13C22R335XX0100 | 14C22R215XX0100
12C22L336XX0100 | 13C22L235XX0100 | 13C22R336XX0100 | 14C22R216XX0100
12C22L475XX0100 | 13C22L236XX0100 | 13C22R475XX0100 | 14C22R235XX0100
12C22L476XX0100 | 13C22L2F5XX0100 | 13C22R476XX0100 | 14C22R236XX0100
12C22L4G5XX0100 | 13C22L2F6XX0100 | 13C22R4G5XX0100 | 14C22R2F5XX0100
12C22L4G6XX0100 | 13C22L335XX0100 | 13C22R4G6XX0100 | 14C22R2F6XX0100
12C22R215XX0100 | 13C22L336XX0100 | 14C22L215XX0100 | 14C22R335XX0100
12C22R216XX0100 | 13C22L475XX0100 | 14C22L216XX0100 | 14C22R336XX0100
12C22R235XX0100 | 13C22L476XX0100 | 14C22L235XX0100 | 14C22R475XX0100
12C22R236XX0100 | 13C22L4G5XX0100 | 14C22L236XX0100 | 14C22R476XX0100
12C22R2F5XX0100 | 13C22L4G6XX0100 | 14C22L2F5XX0100 | 14C22R4G5XX0100
12C22R2F6XX0100 | 13C22R215XX0100 | 14C22L2F6XX0100 | 14C22R4G6XX0100
Type II—15 Min.
22C15L110XX0100 | 22C15L280XX0100 | 22C15R110XX0100 | 22C15R280XX0100
22C15L120XX0100 | 22C15L290XX0100 | 22C15R120XX0100 | 22C15R290XX0100
22C15L130XX0100 | 22C15L370XX0100 | 22C15R140XX0100 | 22C15R370XX0100
22C15L140XX0100 | 22C15L3J0XX0100 | 22C15R150XX0100 | 22C15R3J0XX0100
22C15L150XX0100 | 22C15L480XX0100 | 22C15R160XX0100 | 22C15R480XX0100
22C15L160XX0100 | 22C15L4H0XX0100 | 22C15R170XX0100 | 22C15R4H0XX0100
22C15L170XX0100 | 22C15L4S0XX0100 | 22C15R210XX0100 | 22C15R4S0XX0100
22C15L210XX0100 | 22C15L4T0XX0100 | 22C15R220XX0100 | 22C15R4T0XX0100
22C15L220XX0100 | 22C15L680XX0100 | 22C15R240XX0100 | 22C15R6U0XX0100
22C15L240XX0100 | 22C15L680XX0100 | 22C15R270XX0100
22C15L270XX0100 | 22C15L6U0XX0100
Type II—22 Min.
22C22L110XX0100 | 22C22L280XX0100 | 22C22R110XX0100 | 22C22R280XX0100
22C22L120XX0100 | 22C22L290XX0100 | 22C22R120XX0100 | 22C22R290XX0100
22C22L130XX0100 | 22C22L370XX0100 | 22C22R140XX0100 | 22C22R370XX0100
22C22L140XX0100 | 22C22L3J0XX0100 | 22C22R150XX0100 | 22C22R3J0XX0100
22C22L150XX0100 | 22C22L480XX0100 | 22C22R160XX0100 | 22C22R480XX0100
22C22L160XX0100 | 22C22L4H0XX0100 | 22C22R170XX0100 | 22C22R4H0XX0100
22C22L170XX0100 | 22C22L4S0XX0100 | 22C22R210XX0100 | 22C22R4S0XX0100
22C22L210XX0100 | 22C22L4T0XX0100 | 22C22R220XX0100 | 22C22R4T0XX0100
22C22L220XX0100 | 22C22L680XX0100 | 22C22R240XX0100 | 22C22R6U0XX0100
22C22L240XX0100 | 22C22L6U0XX0100 | 22C22R270XX0100
22C22L270XX0100
* Variables XX show the color code of the oxygen container assembly.

(i) Exceptions

(1) Oxygen containers Type I that have been modified in accordance with the Accomplishment Instructions of B/E Aerospace Service Bulletin 1XCXX-0100-35-005, Revision 1, dated December 15, 2012; and oxygen containers Type II that have been modified in accordance with the Accomplishment Instructions of B/E Aerospace Service Bulletin 22CXX-0100-35-003, Revision 1, dated December 20, 2011; are compliant with the requirements of paragraph (h) of this AD.

(2) Airplanes on which Airbus modification 150703 or Airbus modification 150704 have not been embodied in production do not have to comply with the requirements of paragraph (h) of this AD, unless an oxygen container has been replaced since the airplane's entry into service.

(3) Airplanes on which Airbus modification 150703 or Airbus modification 150704 have been embodied in production and which are not listed by model and MSN in Airbus Service Bulletin A320-35A1047, dated March 29, 2011, are not subject to the requirements of paragraphs (g) and (h) of this AD, unless an oxygen container has been replaced since the airplane's entry into service.

(4) Model A319 airplanes that are equipped with a gaseous oxygen system for passengers, installed in production with Airbus modification 33125, do not have the affected passenger oxygen containers installed. Unless these airplanes have been modified in-service (no approved Airbus modification exists), the requirements of paragraphs (g) and (h) of this AD do not apply to these airplanes.

(j) Parts Installation Limitations

As of the effective date of this AD, no person may install an oxygen container having a part number specified in table 2 of this AD and having a serial number specified in table 1 of this AD, on any airplane, unless the container has been modified in accordance with the Accomplishment Instructions of any of the following service bulletins; as applicable:

(1) Airbus Service Bulletin A320-35A1047, dated March 29, 2011.

(2) B/E AEROSPACE Service Bulletin 1XCXX-0100-35-005, Revision 1, dated December 15, 2012.

(3) B/E AEROSPACE Service Bulletin 22CXX-0100-35-003, Revision 1, dated December 20, 2011.

(k) Credit for Previous Actions

This paragraph provides credit for the actions required by paragraph (h) of this AD, if those actions were performed before the effective date of this AD using the service information specified in paragraph (k)(1) or (k)(2) of this AD.

(1) B/E AEROSPACE Service Bulletin 1XCXX-0100-35-005, dated March 14, 2011.

(2) B/E AEROSPACE Service Bulletin 22CXX-0100-35-003, dated March 17, 2011.

(l) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to MCAI European Aviation Safety Agency Airworthiness Directive 2011-0167, dated September 6, 2011, and the service information specified in paragraphs (m)(1)(i), (m)(1)(ii), and (m)(1)(iii) of this AD, for related information.

(i) Airbus Service Bulletin A320-35A1047, dated March 29, 2011.

(ii) B/E AEROSPACE Service Bulletin 1XCXX-0100-35-005, Revision 1, dated December 15, 2012.

(iii) B/E AEROSPACE Service Bulletin 22CXX-0100-35-003, Revision 1, dated December 20, 2011.

(2) For Airbus service information identified in this proposed AD, contact Airbus, Airworthiness Office—EAS, 1 Rond Point Maurice Bellonte, 31707 Blagnac Cedex, France; telephone +33 5 61 93 36 96; fax +33 5 61 93 44 51; email account.airworth-eas@airbus.com; Internet http://www.airbus.com. For B/E service information identified in this proposed AD, contact B/E Aerospace Systems GmbH, Revalstrasse 1, 23560 Lubeck, Germany; telephone (49) 451 4093-2976; fax (49) 451 4093-4488. You may review copies of the referenced service information at the FAA, Transport Airplane Directorate, 1601 Lind Avenue SW., Renton, WA. For information on the availability of this material at the FAA, call 425-227-1221.

Issued in Renton, Washington, on August 3, 2012.
Ali Bahrami,
Manager, Transport Airplane Directorate, Aircraft Certification Service.

[FR Doc. 2012-20112 Filed 8-15-12; 8:45 am]

BILLING CODE 4910-13-P